DEPARTMENT OF AGRICULTURE

Forest Service

Boundary Establishment for Rio Chama National Wild and Scenic River, Santa Fe National Forest, Carson National Forest, and Bureau of Land Management Taos Field Office, Rio Arriba County, New Mexico

AGENCY: Forest Service, USDA, and Bureau of Land Management, USDOI.

ACTION: Notice of availability.

SUMMARY: In accordance with Section 3(b) of the Wild and Scenic Rivers Act, the USDA Forest Service, Washington Office, is transmitting the final boundary of the Rio Chama National Wild and Scenic River to Congress.

FOR FURTHER INFORMATION CONTACT: Information may be obtained by contacting Santa Fe National Forest Supervisor's Office, 11 Forest Lane, Santa Fe, NM 87508; (505) 438-5300; or, Bureau of Land Management New Mexico State Office, 301 Dinosaur Trail, Santa Fe, NM 87508; (505) 954-2000.

SUPPLEMENTARY INFORMATION: The Rio Chama Wild and Scenic River boundary is available for review at the following offices: USDA Forest Service, Yates Building, 14th and Independence Avenue SW, Washington, DC 20024; Santa Fe National Forest Supervisor's Office, 11 Forest Lane, Santa Fe, NM 87508; USDOI, Bureau of Land Management National Office, National Conservation Lands Division (WO-410), 20 M Street SE, Washington, DC 20003; and, Bureau of Land Management Taos Field Office, 226 Cruz Alta Road, Taos, NM 87571.

Public Law 100-633 of November 7, 1988 designated Rio Chama, New Mexico, as a National Wild and Scenic River, to be administered by the Secretary of Agriculture and Secretary of Interior. As specified by law, the boundary will not be effective until ninety days after Congress receives the transmittal.

Dated: December 23, 2019.
Allen Rowley,
Associate Deputy Chief, National Forest System.

[FR Doc. 2020-00456 Filed 1-14-20; 8:45 am]

BILLING CODE 3411-15-P